DEPARTMENT OF ENERGY

Federal Energy Regulatory Commission

[Docket No. RP03-315-001]

Kern River Gas Transmission Company; Notice of Compliance Filing

May 21, 2003.

Take notice that on May 15, 2003, Kern River Gas Transmission Company (Kern River) tendered for filing a compliance filing in response to the “Order Accepting and Suspending Tariff Sheets Subject to Refund and Conditions and Further Review,” dated April 30, 2003, in Docket No. RP03-315, pertaining to Kern River's proposed revisions to its pooling provisions.

Kern River states that it has served a copy of this filing upon each person designated on the official service list compiled by the Secretary in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 27, 2003.

Magalie R. Salas,
Secretary.

[FR Doc. 03-13298 Filed 5-28-03; 8:45 am]

BILLING CODE 6717-01-P